DEPARTMENT OF HEALTH AND HUMAN SERVICES

Stakeholder Listening Session in Preparation for the 65th World Health Assembly

Time and Date: April 30, 2012, 3 p.m.-4:30 p.m. EST.

Place: Great Hall of the Hubert H. Humphrey Building, 200 Independence Avenue SW., Washington DC 20201.

Status: Open, but requiring RSVP to OGA.RSVP@hhs.gov.

Purpose

The U.S. Department of Health and Human Services (HHS)—charged with leading the U.S. delegation to the 65th World Health Assembly—will hold an informal Stakeholder Listening Session on Monday April 30, 3-4:30 p.m., in the Great Hall of the HHS Hubert H. Humphrey Building, 200 Independence Avenue SW., Washington, DC, 20201.

The Stakeholder Listening Session will help the HHS's Office of Global Affairs prepare for the World Health Assembly by taking full advantage of the knowledge, ideas, feedback, and suggestions from all communities interested in and affected by agenda items to be discussed at the 65th World Health Assembly. Your input will contribute to US positions as we negotiate these important health topics with our international colleagues.

The listening session will be organized around the interests and perspectives of stakeholder communities, including, but not limited to:

• Public health and advocacy groups;

• State, local, and Tribal groups;

• Private industry;

• Minority health organizations; and

• Academic and scientific organizations.

It will allow public comment on all agenda items to be discussed at the 65th World Health Assembly http://apps.who.int/gb/ebwha/pdf_files/WHA65/A65_1-en.pdf.

RSVP

Due to security restrictions for entry into the HHS Hubert H. Humphrey Building, we will need to receive RSVPs for this event. Please include your first and last name as well as organization and send it to OGA.RSVP@hhs.gov. If you are not a US citizen please note this in the subject line of your RSVP, and our office will contact you to gain additional biographical information for your clearance. Please RSVP no later than Friday April 20th.

Written comments are welcome and encouraged, even if you are planning on attending in person. Please send these to the same email address OGA.RSVP@hhs.gov.

We look forward to hearing your comments relative to the 65th World Health Assembly agenda items.

Dated: March 26, 2012.
Nils Daulaire,
Director, Office of Global Affairs.

[FR Doc. 2012-7738 Filed 3-30-12; 8:45 am]

BILLING CODE 4150-38-P